DEPARTMENT OF THE INTERIOR

Fish and Wildlife Service

Information Collection Sent to the Office of Management and Budget (OMB) for Approval; OMB Control Number 1018-0124; Migratory Bird Subsistence Harvest Household Survey

AGENCY: Fish and Wildlife Service, Interior.

ACTION: Notice; request for comments.

SUMMARY: We (Fish and Wildlife Service) have sent an Information Collection Request (ICR) to OMB for review and approval. This ICR is scheduled to expire on October 31, 2006. We may not conduct or sponsor and a person is not required to respond to a collection of information unless it displays a currently valid OMB control number. However, under OMB regulations, we may continue to conduct or sponsor this information collection while it is pending at OMB.

DATES: You must submit comments on or before November 29, 2006.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0124.

Title: Migratory Bird Subsistence Harvest Household Survey.

Service Form Numbers: 7-FW-100, 7-FW-101, 7-FW-102, 7-FW-103, 7-FW-103a, and 7-FW-103b.

Type of Request: Revision of currently approved collection.

Affected Public: Households within the subsistence eligible areas of Alaska (Alaska Peninsula, Kodiak Archipelago, the Aleutian Islands, or in areas north and west of the Alaska Range (50 CFR 92.5)).

Respondent's Obligation: Voluntary.

Frequency of Collection: Once per year for forms 7-FW-100, 7-FW-101, and 7-FW-102. Three times per year for forms 7-FW 103, 7-FW-103a, and 7-FW-103b.

Form | Number of respondents | Annual number of responses | Average time/response (minutes) | Total annual burden hours
7-FW-100 | 23,000 | 23,000 | 1 | 383
7-FW-101 | 182 | 182 | 30 | 91
7-FW-102 | 14,000 | 14,000 | 5 | 1,167
7-FW-103, a, b | 11,500 | 34,500 | 5 | 2,875

Abstract: The Migratory Bird Treaty Act Protocol Amendment (1995) (Amendment) provides for the customary and traditional use of migratory birds and their eggs for subsistence use by indigenous inhabitants of Alaska. The Amendment, however, states that its intent is not to cause significant increases in the take of species of migratory birds relative to their continental population sizes. A May 20, 1996, submittal letter from the Department of State to the White House accompanied the Amendment and specified the need for harvest monitoring. The letter stated that the Fish and Wildlife Service, the Alaska Department of Fish and Game, and Native organizations cooperatively would collect harvest estimates within the subsistence eligible areas. Harvest survey data help ensure that customary and traditional use of migratory birds and their eggs for subsistence use by indigenous inhabitants of Alaska does not significantly increase the take of species of migratory birds relative to their continental population sizes.

From 1989 to 2004, we monitored subsistence harvest in Alaska through the use of annual household surveys in the most heavily used subsistence harvest areas; e.g., Yukon-Kuskokwim Delta. In 2004, we began monitoring subsistence harvest in subsistence eligible areas Statewide. We presently rotate survey areas due to budget constraints. This monitoring enables us to track significant changes or trends in levels of harvest and user participation.

We gather information on the annual subsistence harvest of 54 species of birds (including geese, ducks, swans, cranes, loons, seabirds, shorebirds, and upland game birds) through surveys of households in the subsistence eligible areas of Alaska. Annually, local village resident surveyors produce lists of all households in each village and provide survey forms to randomly selected households. We combine the estimates of harvest per household with the complete list of households in the subsistence-eligible areas to obtain estimates of the total annual harvest. We use four forms to collect the harvest information. We will aggregate all information collected and use it only for statistical purposes. We do not arrange or retrieve forms by a personal identifier.

Comments: On June 21, 2006, we published in the Federal Register (71 FR 35690) a notice of our intent to request that OMB renew approval for this information collection. In that notice, we solicited comments for 60 days, ending on August 21, 2006. One comment was received in response to this notice. The commenter did not believe that the information provided by respondents was truthful and objected to the use of taxpayer dollars for the surveys.

We collect this information from people who are part of subsistence-based, Alaska Native cultures, whose ancestors have relied on migratory birds for food for thousands of years to sustain them physically, emotionally, and spiritually. These birds continue to be an important part of the Alaska Native diet in nonroaded, remote parts of Alaska, particularly in springtime. We believe that the information is basically honest and truthful, because:

(1) The reported bird species harvest information corresponds to the species actually known to be in the areas surveyed;

(2) The harvest information is relatively consistent from year to year, by time period and region, and the harvest trends have generally tracked the bird population trends; and

(3) People have an incentive to accurately report their harvests, because they know the information is used to manage the birds they depend on for food. They also know that documenting their customary and traditional dependence on birds is important, especially in times of resource shortage.

Harvest survey information aids in promulgating regulations that help protect the birds. Therefore, taxpayer dollars that pay for harvest surveys are helping protect birds that people depend on for food as well as for enjoyment by present and future generations. We did not make any changes to our information collection as a result of this comment.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents. Comments submitted in response to this notice are a matter of public record.

Dated: October 16, 2006.
Hope Grey,
Information Collection Clearance Officer, Fish and Wildlife Service.

[FR Doc. E6-18149 Filed 10-27-06; 8:45 am]

BILLING CODE 4310-55-P